DEPARTMENT OF DEFENSE

Department of the Army; Corps of Engineers

Coastal Engineering Research Board (CERB)

AGENCY: Department of the Army, DoD.

ACTION: Notice of meeting.

SUMMARY: In accordance with Section 10(a)(2) of the Federal Advisory Committee Act (Pub. L. 92-463), announcement is made of the following committee meeting:

Name of Committee: Coastal Engineering Research Board (CERB).

Date of Meeting: June 7-9, 2005.

Place: William A. Egan Civic and Convention Center, 555 West 5th Avenue, Anchorage, AK 99501.

Times:

8 a.m. to 4:15 p.m. (June 7, 2005)

8 a.m. to 5 p.m. (June 8, 2005)

8 a.m. to 4:30 p.m. (June 9, 2005)

FOR FURTHER INFORMATION CONTACT: Inquiries and notice of intent to attend the meeting may be addressed to Colonel James R. Rowan, Executive Secretary, Commander, U.S. Army Engineer Research and Development Center, Waterways Experiment Station, 3909 Halls Ferry Road, Vicksburg, MS 39180-6199.

SUPPLEMENTARY INFORMATION: Proposed Agenda: On Tuesday morning, June 7, the Board will meet in Executive Session. On Tuesday afternoon, June 7, there will be presentations entitled “Tsunami Warning Center Operations,” “Pacific Risk Management Ohana,” “Alaska Modeling and Data Issues,” “Alaska Ocean Observing System,” and “Island Ocean Observing System.” On Wednesday morning, June 8, there will be presentations entitled “Honolulu District Coastal Research and Development Needs,” “Climate Change Impacts on Alaska Coastline,” “Regional Integrated Sciences and Assessments,” and “Subsistence and Cultural Issues.” The afternoon session on June 8 will include presentations entitled “Denali Commission,” “North Slope Science Initiative,” and “Report of Newtok,” plus a panel discussion pertaining to Shishmaref, Alaska. On Thursday morning, June 9, there will be presentations entitled “Port of Anchorage Physical Modeling,” “Alaska District Dredging Program,” and “Alaska Subsistence Harbors.” The members of the Board will again meet in Executive Session on Thursday afternoon, June 9, followed by a tour of the Port of Anchorage.

These meetings are open to the public; participation by the public is scheduled for 11:15 a.m. on June 9.

The entire meeting is open to the public, but since seating capacity of the meeting room is limited, advance notice of intent to attend, although not required, is requested in order to assure adequate arrangements. Oral participation by public attendees is encouraged during the time scheduled on the agenda; written statements may be submitted prior to the meeting or up to 30 days after the meeting.

James R. Rowan,
Colonel, Corps of Engineers, Executive Secretary.

[FR Doc. 05-9581 Filed 5-12-05; 8:45 am]

BILLING CODE 3710-61-M